NATIONAL FOUNDATION ON THE ARTS AND THE HUMANITIES

National Endowment for the Humanities

Extension of a Currently Approved Collection; 30-Day Comment Request; Generic Clearance for the Collection of Qualitative Feedback on Agency Service Delivery

AGENCY: National Endowment for the Humanities, National Foundation on the Arts and the Humanities.

ACTION: Notice; request for comments.

SUMMARY: In accordance with the Paperwork Reduction Act of 1995, the National Endowment for the Humanities (NEH) has requested that the Office of Management and Budget renew its generic clearance for the collection of qualitative feedback on agency service delivery. This generic clearance fast-tracks the process for NEH to seek feedback from the public, through surveys and similar feedback instruments, regarding NEH services and programs. The public may obtain copies of this Generic Information Collection Request (ICR), with applicable supporting documentation, by visiting www.reginfo.gov.

DATES: Please submit comments by October 7, 2022.

ADDRESSES: Submit written comments to the Office of Information and Regulatory Affairs, Office of Management and Budget, 725 17th Street NW, Washington, DC 20503, Attn: Desk Officer for the National Endowment for the Humanities; or by email to oira_submission@omb.eop.gov; or by fax to (202) 395-6974.

FOR FURTHER INFORMATION CONTACT: Samuel Roth, Attorney-Advisor, Office of the General Counsel, National Endowment for the Humanities, 400 7th Street SW, Room 4060, Washington, DC 20506; (202) 606-8322; gencounsel@neh.gov.

SUPPLEMENTARY INFORMATION: NEH first published notice of its intent to seek OMB approval for this ICR in the Federal Register of June 30, 2022 (87 FR 39132) and allowed 60 days for public comment. The agency did not receive any public comments. The purpose of this notice is to allow an additional 30 days for public comment.

Overview of This Information Collection

Type of Review: Extension of a currently approved collection.

Title: Generic Clearance for the Collection of Qualitative Feedback on Agency Service Delivery.

OMB Control Number: 3136-0140.

Abstract: NEH is seeking to renew its generic clearance for the collection of qualitative feedback on agency service delivery. This information collection enables NEH to obtain qualitative customer and stakeholder feedback in an efficient, timely manner, in accordance with the Administration's commitment to improving the Federal Government's customer experience and service delivery. Qualitative feedback includes information that provides useful insights on perceptions and opinions, as opposed to statistical surveys that yield quantitative results that can be generalized to the population of study.

There is no change in the method, substance, or estimated burden of the proposed collection of information.

Affected Public: Individuals and Households, Businesses and Organizations, State, Local or Tribal Governments.

Frequency of Collection: On occasion.

Estimated Annual Number of Respondents: 10,000.

Estimated Average Time per Response: 15 minutes.

Estimated Total Annual Burden Hours: 2,500 hours.

Request for Comments

The public is invited to comment on all aspects of this ICR including: (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on those who are to respond, including through the use of automated collection techniques or other forms of information technology.

Dated: August 31, 2022.
Samuel Roth,
Attorney-Advisor, National Endowment for the Humanities.

[FR Doc. 2022-19147 Filed 9-6-22; 8:45 am]

BILLING CODE 7536-01-P